DEPARTMENT OF HOUSING AND URBAN DEVELOPMENT

24 CFR Part 574

[Docket No. FR 5339-C-04]

RIN 2502-AI94

Housing Counseling: New Certification Requirements; Correction

AGENCY: Office of the General Counsel, HUD.

ACTION: Final rule; correction.

SUMMARY: On December 14, 2016, HUD published a final rule implementing changes to HUD's housing counseling statute to improve the effectiveness of housing counseling in HUD programs by, among other things: Establishing the Office of Housing Counseling and giving this office the authority over the establishment, coordination, and administration of all regulations, requirements, standards, and performance measures under programs and laws administered by HUD that relate to housing counseling; requiring that organizations providing housing counseling required under or in connection with HUD programs be approved to participate in the Housing Counseling Program (Housing Counseling Agencies, or HCAs) and have all individuals providing such housing counseling certified by HUD as competent to provide such services; prohibiting the distribution of housing counseling grant funds awarded to agencies participating in HUD's Housing Counseling Program that are found in violation of Federal election laws or that have employees found in violation of Federal election laws; and requiring the reimbursement to HUD of housing counseling grant funds that HUD finds were misused. After publication, HUD discovered an incorrect amendatory instruction. This document makes the necessary correction. The effective date for HUD's final rule of January 13, 2017 is unchanged.

DATES: Effective January 31, 2017.

FOR FURTHER INFORMATION CONTACT: With respect to this supplementary document, contact Ariel Periera, Associate General Counsel for Legislation and Regulations, Department of Housing and Urban Development, 451 7th Street SW., Room 10238, Washington, DC 20410; telephone number 202-708-1793 (this is not a toll-free number). Persons with hearing or speech impairments may access this number through TTY by calling the toll-free Federal Relay Service at 800-877-8339.

SUPPLEMENTARY INFORMATION: In the final rule FR Doc. 2016-29822, published in the Federal Register on December 14, 2016 (81 FR 90632), the following correction is made:

On page 90659, in the third column, revise amendatory instruction 17 to read “Add § 574.660 to read as follows:”.

Dated: January 4, 2017.
Aaron Santa Anna,
Assistant General Counsel for Regulations.

[FR Doc. 2017-00255 Filed 1-30-17; 8:45 am]

BILLING CODE 4210-67-P